COMMISSION ON CIVIL RIGHTS

Agenda and Notice of Public Meeting of the Hawaii Advisory Committee

Notice is hereby given, pursuant to the provisions of the rules and regulations of the U.S. Commission on Civil Rights, that a meeting of the Hawaii Advisory Committee to the Commission will convene at 8:00 a.m. and adjourn at 8:00 p.m. on Friday, September 29, 2000, at the Hilton Hawaiian Village, 2005 Kalia Road, Honolulu, Hawaii 96815-1999. The purpose of the factfinding, one day open meeting is to discuss the impact of the Rice vs. Cayetano Supreme Court decision on the State of Hawaii.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated at Washington, DC, September 5, 2000.
Lisa M. Kelly,
Special Assistant to the Staff Director, Regional Programs Coordination Unit.

[FR Doc. 00-23276 Filed 9-11-00; 8:45 am]

BILLING CODE 6335-01-P